DEPARTMENT OF ENERGY

Federal Energy Regulatory Commission

[Docket No. RP01-46-000]

Carnegie Interstate Pipeline Company; Notice of Request for Exemption

October 19, 2000.

Take notice that on October 13, 2000, Carnegie Interstate Pipeline Company (Carnegie) in compliance with the Commission's September 28, 2000 order in Docket No. RM96-1-016, and pursuant to Rule 212 of the Commission's Rules of Practice and Procedure, 18 CFR 385.212, tendered for filing their requests for waiver of section 284.12(c)(2)(ii) of the Commission's regulations, which requires pipelines to implement imbalance netting and trading on their systems.

Carnegie states that its shippers do not incur imbalances netting trading to avoid cash-out charges because Carnegie does not have a cash-out mechanism.

Any person desiring to be heard or to protest said filing should file a motion to intervene or a protest with the Federal Energy Regulatory Commission, 888 First Street, NE, Washington, DC 20426, in accordance with Sections 385.214 or 385.211 of the Commission's Rules and Regulations. All such motions or protests must be filed on or before October 26, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27342 Filed 10-24-00; 8:45 am]

BILLING CODE 6717-01-M